DEPARTMENT OF COMMERCE

Foreign-Trade Zones Board

[Order No. 2027]

Reorganization of Foreign-Trade Zone 257 Under Alternative Site Framework; Imperial County, California

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, Imperial County, California, grantee of Foreign-Trade Zone 257, submitted an application to the Board (FTZ Docket B-81-2015, docketed December 3, 2015) for authority to reorganize under the ASF with a service area of Imperial County, California, in and adjacent to the Calexico, California, U.S. Customs and Border Protection port of entry, and FTZ 257's existing Sites 1-5 and 7-14 would be categorized as magnet sites and existing Sites 6, 15 and 16 would be categorized as usage-driven sites;

Whereas, notice inviting public comment was given in the Federal Register (80 FR 76443-76444, December 9, 2015) and the application has been processed pursuant to the FTZ Act and the Board's regulations; and,

Whereas, the Board adopts the findings and recommendations of the examiner's report, and finds that the requirements of the FTZ Act and the Board's regulations are satisfied;

Now, therefore, the Board hereby orders:

The application to reorganize FTZ 257 under the ASF is approved, subject to the FTZ Act and the Board's regulations, including Section 400.13, to the Board's standard 2,000-acre activation limit for the zone, to an ASF sunset provision for magnet sites that would terminate authority for Sites 1-5 and 7-14 if not activated within five years from the month of approval, and to an ASF sunset provision for usage-driven sites that would terminate authority for Sites 6, 15 and 16 if no foreign-status merchandise is admitted for a bona fide customs purpose within three years from the month of approval.

Dated: March 1, 2017.
Ronald K. Lorentzen,
Acting Assistant Secretary of Commerce for Enforcement and Compliance, Alternate Chairman, Foreign-Trade Zones Board.

[FR Doc. 2017-04826 Filed 3-10-17; 8:45 am]

BILLING CODE 3510-DS-P